NUCLEAR REGULATORY COMMISSION

[Docket Nos. 50-245, 50-336, and 50-423]

Northeast Nuclear Energy Company et al.; Millstone Nuclear Power Station, Unit Nos. 1, 2, and 3; Notice of Consideration of Approval of Transfer of Facility Operating Licenses and Conforming Amendments and Opportunity for a Hearing

The U.S. Nuclear Regulatory Commission (the Commission) is considering the issuance of an order under 10 CFR 50.80 approving the transfer of Facility Operating Licenses Nos. DPR-21, DPR-65, and NPF-49 for Millstone Nuclear Power Station, Unit Nos. 1, 2, and 3 (M1, M2, and M3) to the extent currently held by Northeast Nuclear Energy Company (NNECO), the licensed operator and non-owner of the facilities, and certain co-licensees listed below holding ownership interests in the facilities. The transfer would be to a new generating company, Dominion Nuclear Connecticut, Inc., (DNC). DNC is an indirect subsidiary of Dominion Energy, which is in turn owned by Dominion Resources, Inc. The Commission is also considering amending the licenses for administrative purposes to reflect the proposed transfer. The facilities are located in New London County, Connecticut.

The following is a list of the licensees involved in the license transfers who hold ownership interests in M1, M2, and M3, and their respective interests:

| Percent
M1 and M2:
The Connecticut Light and Power Company (CL&P) | (81)
Western Massachusetts Electric Company (WMECO) | (19)
M3:
CL&P | (52.9330)
WMECO | (12.2385)
Public Service Co. of New Hampshire | (2.8475)
The United Illuminating Company | (3.6850)
New England Power Company | (16.2140)
Central Maine Power Company | (2.5000)
Chicopee Municipal Lighting Plant | (1.3500)
Connecticut Municipal Electric Energy Cooperative | (1.0870)
Vermont Electric Generation and Transmission Coop. | (0.3500)
Fitchburg Gas & Electric Light Company | (0.2170)
Village of Lyndonville Electric Department | (0.0487)

Central Vermont Public Service Corporation (Central Vermont) which holds a 1.7303% ownership interest in M3, and Massachusetts Municipal Wholesale Electric Company (Massachusetts Municipal) which holds a 4.7990% ownership interest in M3, are not involved in the subject license transfers.

According to an application for approval filed by NNECO and DNC, DNC would assume ownership of the facilities (except for the interests in M3 by Central Vermont and Massachusetts Municipal) following approval of the proposed transfer of the licenses, and would become exclusively responsible for the operation, maintenance, and eventual decommissioning of M1, M2, and M3. No physical changes to the facilities or operational changes are being proposed in the application.

The proposed amendments would replace references in the licenses to NNECO and the other licensees transferring their interests with references to DNC and make other changes for administrative purposes to reflect the proposed transfer.

Pursuant to 10 CFR 50.80, no license, or any right thereunder, shall be transferred, directly or indirectly, through transfer of control of the license, unless the Commission shall give its consent in writing. The Commission will approve an application for the transfer of a license if the Commission determines that the proposed transferee is qualified to hold the license, and that the transfer is otherwise consistent with applicable provisions of law, regulations, and orders issued by the Commission pursuant thereto.

Before issuance of the proposed conforming license amendments, the Commission will have made findings required by the Atomic Energy Act of 1954, as amended (the Act), and the Commission's regulations.

As provided in 10 CFR 2.1315, unless otherwise determined by the Commission with regard to a specific application, the Commission has determined that any amendment to the license of a utilization facility which does no more than conform the license to reflect the transfer action involves no significant hazards consideration. No contrary determination has been made with respect to this specific license amendment application. In light of the generic determination reflected in 10 CFR 2.1315, no public comments with respect to significant hazards considerations are being solicited, notwithstanding the general comment procedures contained in 10 CFR 50.91.

The filing of requests for hearing and petitions for leave to intervene, and written comments with regard to the license transfer application, are discussed below.

By November 13, 2000, any person whose interest may be affected by the Commission's action on the application may request a hearing and, if not the applicant, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon:

David R. Lewis, Esq., Counsel for Dominion Nuclear Connecticut, Inc., at Shaw Pittman, 2300 N Street, NW., Washington DC 20037;

Lillian M. Cuoco, Counsel for NNECO, at Northeast Utilities Service Co., P.O. Box 270, Hartford CT 06141;

The General Counsel, U.S. Nuclear Regulatory Commission, Washington, DC 20555 (e-mail address for filings regarding license transfer cases only: OGCLT@NRC.gov); and

The Secretary of the Commission, U.S. Nuclear Regulatory Commission, Washington, DC 20555-0001, Attention: Rulemakings and Adjudications Staff,

in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by November 24, 2000, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the applications dated August 31 and October 12, 2000, available for public inspection at the Commission's Public Document Room, One White Flint North, 11555 Rockville Pike (first floor), Rockville, MD, and accessible electronically through the ADAMS Public Electronic Reading Room link at the NRC Web site (http://www.nrc.gov).

Dated at Rockville, Maryland this 18th day of October 2000.
For the Nuclear Regulatory Commission.
Jacob I. Zimmerman,
Project Manager, Section 2, Project Directorate I, Division of Licensing Project Management, Office of Nuclear Reactor Regulation.

[FR Doc. 00-27285 Filed 10-23-00; 8:45 am]

BILLING CODE 7590-01-P